FEDERAL MARITIME COMMISSION

Ocean Transportation Intermediary License Reissuance

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR part 515.

License No. | Name/address | Date reissued
017126N | Daily Freight Cargo, Corp., 8538 NW 70th Street, Miami, FL 33166 | January 19, 2007.
017121F | Freight Logistics Services, LLC, 21905 64th Avenue West, Suite 301-A, Mountlake Terrace, WA 98043 | March 24, 2007.
018123F | Susie Gonzalez, Inc. dba F.R.I.E.N.D.S. Cargo Int'l, 8367 NW 74th Street, Miami, FL 33166 | March 2, 2007.

Sandra L. Kusumoto,
Director, Bureau of Certification and Licensing.

[FR Doc. E7-7354 Filed 4-17-07; 8:45 am]

BILLING CODE 6730-01-P